DEPARTMENT OF COMMERCE

Bureau of Industry and Security

15 CFR Parts 734, 740, 744, 746 and 774

[Docket No. 240610-0156]

RIN 0694-AJ67

Implementation of Additional Sanctions Against Russia and Belarus Under the Export Administration Regulations (EAR) and Refinements to Existing Controls

Correction

In rule document 2024-13148 beginning on page 51644 in the issue of Tuesday, June 18, 2024, make the following correction:

Supplement No. 5 to Part 744 [Corrected]

On page 51662, in Supplement No. 5 to Part 744, in the first column, in the twentieth line, “€” should read “(e)”.

[FR Doc. C1-2024-13148 Filed 9-3-24; 8:45 am]

BILLING CODE 0099-10-P